DEPARTMENT OF VETERANS AFFAIRS

Special Medical Advisory Group, Notice of Meeting

The Department of Veterans Affairs (VA) gives notice under the Federal Advisory Committee Act, 5 U.S.C. App. 2, that the Special Medical Advisory Group (the Committee) will meet on September 14, 2022, from 9 a.m. EDT to 3:30 p.m. EDT, at VA Boston. The meeting is open to the public, though the public will only be able to attend virtually. Members of the Committee may join in person or virtually. Join via Webex (please contact POC below for assistance connecting): https://veteransaffairs.webex.com/veteransaffairs/j.php?MTID=mc14997f9966d6a9a2050f9a32bfca42f. Join by phone: 1-404-397-1596, Access code 27634106761.

The purpose of the Committee is to advise the Secretary of Veterans Affairs and the Under Secretary for Health on the care and treatment of Veterans, and other matters pertinent to the Veterans Health Administration.

On September 14, 2022, the agenda for the meeting will include discussions on federal supremacy, violence in the federal workplace, combatting Veteran homelessness, research and education, Long COVID and core competencies for current and future health professionals.

Members of the public may submit written statements for review by the Committee to: Department of Veterans Affairs, Special Medical Advisory Group—Office of Under Secretary for Health (10), Veterans Health Administration, 810 Vermont Avenue NW, Washington, DC 20420 or by email at VASMAGDFO@va.gov. Comments will be accepted until close of business on Monday, September 12, 2022.

Any member of the public wishing to attend the meeting or seeking additional information should email VASMAGDFO@va.gov or call 202-461-7000.

Dated: August 16, 2022.
LaTonya L. Small,
Federal Advisory Committee Management Officer.

[FR Doc. 2022-17902 Filed 8-18-22; 8:45 am]

BILLING CODE P